DEPARTMENT OF LABOR

Employment and Training Administration

Comment Request for Information Collection for the Evaluation of the Reintegration of Ex-Offenders—Adult Program (RExO), New Collection

AGENCY: Employment and Training Administration (ETA), Labor.

ACTION: Notice.

SUMMARY: The Department of Labor (Department), as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

Currently, ETA is soliciting comments concerning the collection of data for the Evaluation of RExO. A copy of the proposed information collection request can be obtained by contacting the office listed below in the addressee section of this notice.

DATES: Written comments must be submitted to the office listed in the addressee's section below on or before May 9, 2011.

ADDRESSES: Submit written comments to Bogdan Tereshchenko, Room N-5641, Employment and Training Administration, 200 Constitution Avenue NW., Washington, DC 20210. Telephone number: 202-693-3224 (this is not a toll-free number). Fax number: 202-693-2766. E-mail: tereshchenko.bogdan@dol.gov.

SUPPLEMENTARY INFORMATION:

I. Background

More than two million people are incarcerated in Federal and State prisons and local jails, and over 600,000 people return from prisons to communities across the country each year. Released ex-offenders face multiple challenges, including difficulties with finding a job and housing and accessing social and health services, possible child support arrears, and family troubles. A study conducted for the Bureau of Justice Statistics showed that two-thirds of individuals released from prison in 1994 were rearrested and half returned to prison within three years. Recent research suggests that released offenders consider finding employment a high priority and that higher employment and earnings are associated with lower recidivism.

Through RExO, the Department issued grants to urban faith-based and community organizations (FBCOs) to provide comprehensive employment-centered services to nonviolent offenders recently released from prison. Building on the strengths that FBCOs bring, RExO's programs include mentoring and various supportive services and facilitate connections with providers of housing services. Since many of the grantees serve areas with high concentrations of returning prisoners, one of RExO's aims is to exercise a positive influence on the communities' broader social fabric.

Under contract with ETA, Social Policy Research Associates is conducting a random assignment evaluation of 24 of RExO's first generation grants. Participants at each site are randomly assigned to either the program (60 percent) or the control (40 percent) group. The evaluation includes:

• An implementation component. This component involves documenting the processes, used by the grantee organizations to assign participants to either the program group, which was offered program services, or the control group, which was not; describing the characteristics of the program participants; examining the community contexts of the RExO grantee programs; and identifying the differences in the services provided to the program and control groups (the latter could access non-RExO services) as well as variations across grantees. By shedding light on the programmatic practices of RExO, this component will support the interpretation of impact findings. Information for it will come from site visits to the grantees and the program's management information system.

• An impact component. Comparing the two groups' employment-related and recidivism outcomes will allow the research team to estimate the impacts of RExO services for eligible ex-offenders overall and for key subgroups. Outcome data will be obtained from telephone surveys of members of the RExO program and control groups conducted at 12 and 36 months after random assignment.

The RExO evaluation will rely on the following information sources for the implementation and impact components:

• Unstructured in-person interviews with program staff at each site. The research team will conduct a visit to each of the 24 grantee sites. Interviews with grantee program staff, carried out during these visits, will yield detailed information on program operations, administrative issues, service delivery, and promising practices; and

• 12-month and 36-month participant surveys. The survey questions will address employment and training services received from RExO and other sources; outcomes including employment, job characteristics (such as hourly wages, available fringe benefits, and occupations), earnings, and recidivism; as well as health status, receipt of public assistance, and housing. Responses to the survey will be the main data source for estimating the program impacts.

II. Review Focus

The Department is particularly interested in comments, which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: New collection.

Title: Evaluation of the Reintegration of Ex-Offenders—Adult Program.

OMB Number: 1205-0NEW.

Affected Public: Individuals, Private sector, Not-for profit.

Total Annual Respondents: 4,032.

Annual Frequency: The survey will be administered twice (12 and 36 months after enrollment), and the unstructured interviews will be conducted once.

Total Annual Responses: 4,032.

Average Time per Response: 30 minutes for the survey and 120 minutes for each interview.

Estimated Total Annual Burden Hours: 3,984.

Total Annual Burden Cost for Respondents: $47,280.

Information collection activity | Total respondents | Frequency | Average time per response (min) | Burden hours
Impact component:
12-month survey | 3,840 | Once | 30 | 1,920
36-month survey | 3,360 | Once | 30 | 1,680
Implementation component:
Unstructured interviews | 192 | Once | 120 | 384
Total |  |  |  | 3,984

Information collection activity | Total respondents | Annual burden (hours) | Average cost per hour | Annual burden cost
Impact component:
12-month survey | 3,840 | 1,920 | $10 | $19,200
36-month survey | 3,360 | 1,680 | $11 | $18,480
Implementation component:
Unstructured interviews | 192 | 384 | $25 | $9,600
Total |  | 3,984 |  | $47,280

Comments submitted in response to this comment request will be summarized and/or included in the request for the Office of Management and Budget approval of the information collection request; they will also become a matter of public record.

Dated: February 23, 2011.
Jane Oates,
Assistant Secretary, Employment and Training Administration.

[FR Doc. 2011-5194 Filed 3-7-11; 8:45 am]

BILLING CODE 4510-FT-P